DEPARTMENT OF ENERGY

Federal Energy Regulatory Commission

Combined Notice of Filings #1

November 07, 2006.

Take notice that the Commission received the following electric corporate filings:

Docket Numbers: EC07-11-000.

Applicants: American Electric Power Service Corp.

Description: AEP Operating Companies' request for disclaimer of jurisdiction or, in the alternative, application for approvals under Section 203 of the Federal Power Act.

Filed Date: 10/31/2006.

Accession Number: 20061106-0134.

Comment Date: 5 p.m. Eastern Time on Tuesday, November 21, 2006.

Take notice that the Commission received the following electric rate filings:

Docket Numbers: ER95-1528-013; ER97-2758-013; ER96-1088-038; ER96-1858-018; ER01-2659-007; ER02-2199-005; ER03-54-005; ER03-55-005; ER03-56-005; ER03-674-005; ER01-1114-006; ER05-89-006.

Applicants: Wisconsin Public Service Corporation; Advantage Energy, Inc.; Wisconsin Power Development, LLC; WPS Energy Services; Mid-American Power, LLC; Combined Locks Energy Center, LLC; WPS Empire State, Inc.; WPS Beaver Falls Generation, LLC; WPS Niagara Generation, LLC; WPS Syracuse Generation, LLC; Quest Energy, LLC; WOS Canada Generation, Inc. and WPS New England Generation, Inc.; Upper Peninsula Power Company.

Description: WPS Resources Corp on behalf of WPS Energy Services Inc submits a Notice of Change in Status set forth in the Commission's Order 652.

Filed Date: 11/02/2006.

Accession Number: 20061107-0060.

Comment Date: 5 p.m. Eastern Time on Friday, November 24, 2006.

Docket Numbers: ER00-1049-007; ER00-1895-007; ER00-3696-006; ER01-1044-007; ER01-140-006; ER01-141-006; ER01-1619-009; ER01-3109-007; ER01-943-006; ER02-2202-010; ER02-443-008; ER02-506-007; ER02-553-006; ER03-42-011; ER05-1266-004; ER96-1947-020; ER98-2680-012; ER98-2681-012; ER98-2682-012; ER98-2783-010; ER99-1567-006; ER99-1785-011; ER99-2157-007; ER99-2602-006; ER99-3822-009; ER99-4160-010.

Applicants: Calcasieu Power, LLC; Dynegy Midwest Generation, Inc.; Griffith Energy LLC; Riverside Generating Company, LLC; Dynegy Danskammer, L.L.C.; Dynegy Roseton, LLC; Duke Energy Mohave, LLC; Renaissance Power, L.L.C; Heard County Power, LLC; Duke Energy Arlington Valley, LLC; Bluegrass Generation Company, L.L.C.; Rolling Hills Generating, LLC; Sithe/Independence Power Partners, L.P.; Ontelaunee Power Operating Company, LLC; LS POWER MARKETING LLC; Duke Energy Moss Landing LLC; Duke Energy Morro Bay LLC; Duke Energy Oakland LLC; BRIDGEPORT ENERGY LLC; ROCKINGHAM POWER LLC; Duke Energy South Bay, LLC; Rocky Road Power LLC; LSP-Kendall Energy, LLC; Casco Bay Energy Company, L.L.C.; Dynegy Power Marketing, Inc.

Description: Dynegy Entities and LSP Entities submits notice of non-material change in status and request for expedited review under ER02-506 et al.

Filed Date: 11/02/2006.

Accession Number: 20061107-0082.

Comment Date: 5 p.m. Eastern Time on Friday, November 24, 2006.

Docket Numbers: ER06-18-004.

Applicants: Midwest Independent Transmission System Operator, Inc.

Description: Midwest Independent Transmission System Operator, Inc submits proposed revisions to their Open Access Transmission & Energy Markets Tariff, to comply with FERC's 2/3/06 Order.

Filed Date: 11/01/2006.

Accession Number: 20061107-0084.

Comment Date: 5 p.m. Eastern Time on Wednesday, November 22, 2006.

Docket Numbers: ER06-360-004; ER06-361-004; ER06-362-004; ER06-363-004; ER06-366-004; ER06-372-004; ER06-373-004.

Applicants: Midwest Independent Transmission System Operator, Inc.; Miswest ISO Transmission Owners.

Description: Midwest Independent Transmission System Operator, Inc et al. submit proposed revisions to Schedule 23 etc pursuant to FERC's 10/4/06 order under ER06-360 et al.

Filed Date: 11/03/2006.

Accession Number: 20061107-0061.

Comment Date: 5 p.m. Eastern Time on Friday, November 24, 2006.

Docket Numbers: ER06-993-002.

Applicants: Orion Power MidWest, LP.

Description: Orion Power MidWest LP submits proposed revisions to its tariff sheets to implement Cost of Service Recovery Rates in compliance with FERC's directives in the October 13 Order.

Filed Date: 11/01/2006.

Accession Number: 20061107-0083.

Comment Date: 5 p.m. Eastern Time on Wednesday, November 22, 2006.

Docket Numbers: ER06-1201-002.

Applicants: E.On U.S. Services, Inc.

Description: E.ON US, LLC on behalf of Louisville Gas and Electric Co and Kentucky Utilities submit a joint Interconnection Agreement with East Kentucky Power Cooperative pursuant to the 10/4/06 letter order.

Filed Date: 11/03/2006.

Accession Number: 20061107-0059.

Comment Date: 5 p.m. Eastern Time on Friday, November 24, 2006.

Docket Numbers: ER06-1252-002.

Applicants: E.On U.S. Services, Inc.

Description: E.ON U.S. LLC on behalf of Louisville Gas and Electric Co submits a Transmission Lease Agreement with East Kentucky Power Cooperative.

Filed Date: 11/03/2006.

Accession Number: 20061107-0056.

Comment Date: 5 p.m. Eastern Time on Friday, November 24, 2006.

Docket Numbers: ER06-1401-002.

Applicants: PJM Interconnection, LLC.

Description: PJM Interconnection, LLC submits a Second Substitute Allegheny Ridge Interim Service Agreement, designated as Second Substitute Original Service Agreement 1541.

Filed Date: 11/01/2006.

Accession Number: 20061107-0085.

Comment Date: 5 p.m. Eastern Time on Wednesday, November 22, 2006.

Docket Numbers: ER06-1438-001.

Applicants: Louisville Gas & Electric Company/KU.

Description: Louisville Gas and Electric Co et al. submit revised cost-based tariff sheets containing a 9/1/06 effective date pursuant to the 10/4/06 letter order etc.

Filed Date: 11/03/2006.

Accession Number: 20061107-0062.

Comment Date: 5 p.m. Eastern Time on Friday, November 24, 2006.

Docket Numbers: ER07-147-000.

Applicants: San Diego Gas & Electric Company.

Description: San Diego Gas and Electric Co. submits Amendment 2 to the Interconnection Agreement designated as Service Agreement 14 to FERC Electric Tariff, Second Revised Volume 6.

Filed Date: 11/02/2006.

Accession Number: 20061106-0002.

Comment Date: 5 p.m. Eastern Time on Friday, November 24, 2006.

Docket Numbers: ER07-148-000.

Applicants: San Diego Gas & Electric Company.

Description: San Diego Gas and Electric Company submits Amendment 2 to Interconnection Agreement designated as Service Agreement 18 to its FERC Electric Tariff, Second Revised Volume 6.

Filed Date: 11/02/2006.

Accession Number: 20061106-0003.

Comment Date: 5 p.m. Eastern Time on Friday, November 24, 2006.

Docket Numbers: ER07-149-000.

Applicants: Pacific Gas and Electric Company.

Description: Pacific Gas and Electric Company submits Notice of Cancellation of its FERC Rate Schedule 207 the Must-Run Service Agreement with California Independent System Operator et al.

Filed Date: 11/01/2006.

Accession Number: 20061106-0004.

Comment Date: 5 p.m. Eastern Time on Wednesday, November 22, 2006.

Docket Numbers: ER07-150-000.

Applicants: Public Service Company of New Mexico; Texas-New Mexico Power Company, TNP Enterprises, Inc.

Description: Public Service Company of New Mexico submits an Open Access Transmission Tariff under FERC Electric Tariff, Original Volume 6, effective 1/1/07.

Filed Date: 11/02/2006.

Accession Number: 20061106-0129.

Comment Date: 5 p.m. Eastern Time on Friday, November 24, 2006.

Docket Numbers: ER07-151-000.

Applicants: New England Power Pool Participants Committee.

Description: New England Power Pool Participants Committee submits transmittal letter along with counterpart signature pages of the New England Power Pool Agreement dated as of 9/1/71.

Filed Date: 11/01/2006.

Accession Number: 20061106-0001.

Comment Date: 5 p.m. Eastern Time on Wednesday, November 22, 2006.

Docket Numbers: ER07-152-000.

Applicants: Duke Energy Carolinas, LLC.

Description: Duke Energy Carolinas, LLC submits the October 31, 2006 Confirmation of a Master Power Purchase and Sale Agreement with Progress Energy Carolinas, Inc. pursuant to Section 205 of the Federal Power Act.

Filed Date: 11/02/2006.

Accession Number: 20061106-0121.

Comment Date: 5 p.m. Eastern Time on Friday, November 24, 2006.

Docket Numbers: ER07-153-000.

Applicants: Ameren Services Company.

Description: Ameren Services Company on behalf of Central Illinois Light Company submits Original Sheet 1 et al. to FERC Electric Tariff, Original Volume No. 1.

Filed Date: 11/02/2006.

Accession Number: 20061106-0058.

Comment Date: 5 p.m. Eastern Time on Friday, November 24, 2006.

Docket Numbers: ER07-154-000.

Applicants: Westar Energy, Inc.

Description: Westar Energy, Inc. submits Third Revised Sheets 1 and 4 of First Revised Rate Schedule FERC 233, Electric Power Supply Agreement with the City of Robinson, Kansas.

Filed Date: 11/02/2006.

Accession Number: 20061106-0005.

Comment Date: 5 p.m. Eastern Time on Friday, November 24, 2006.

Docket Numbers: ER07-155-000.

Applicants: LBPC Power, Inc.

Description: LBPC Power, Inc. submits a Petition for Acceptance of Initial Tariff, Waivers and Blanket Authority and request acceptance of FERC Tariff, Original Volume No. 1.

Filed Date: 11/02/2006.

Accession Number: 20061106-0007.

Comment Date: 5 p.m. Eastern Time on Friday, November 24, 2006.

Docket Numbers: ER07-156-000.

Applicants: New York Independent System Operator, Inc.

Description: New York Independent System Operator Inc. submits Proposed Revisions regarding the shortening of the NYISO submit customer Settlement Cycle.

Filed Date: 11/02/2006.

Accession Number: 20061106-0014.

Comment Date: 5 p.m. Eastern Time on Friday, November 24, 2006.

Docket Numbers: ER07-157-000.

Applicants: Macquarie Cook Power, Inc.

Description: Macquarie Cook Power, Inc. submits an Application for Order Accepting Initial Rate Schedule for Filing, Waiving Regulations and Granting Blanket Approvals.

Filed Date: 11/02/2006.

Accession Number: 20061106-0008.

Comment Date: 5 p.m. Eastern Time on Friday, November 24, 2006.

Docket Numbers: ER07-158-000.

Applicants: Williams Power Company, Inc.

Description: Williams Power Company, Inc. submits a Notice of Cancellation of its FERC Second Revised Rate Schedule 19 Reliability Must-Run Agreement with California Independent System Operator Corporation.

Filed Date: 11/02/2006.

Accession Number: 20061106-0009.

Comment Date: 5 p.m. Eastern Time on Friday, November 24, 2006.

Docket Numbers: ER07-159-000.

Applicants: Williams Power Company, Inc.

Description: Williams Power Company Inc., submits Notice of Cancellation of its Second Revised FERC Rate Schedule 17 Reliability Must-Run Agreement with California Independent System Operator Corporation.

Filed Date: 11/02/2006.

Accession Number: 20061106-0010.

Comment Date: 5 p.m. Eastern Time on Friday, November 24, 2006.

Docket Numbers: ER07-160-000.

Applicants: Goose Haven Energy Center, LLC.

Description: Goose Haven Energy Center LLC submits a Notice of Termination of its FERC Rate Schedule 2 Reliability Must-Run Agreement with California Independent System Operator Corporation.

Filed Date: 11/02/2006.

Accession Number: 20061106-0011.

Comment Date: 5 p.m. Eastern Time on Friday, November 24, 2006.

Docket Numbers: ER07-161-000.

Applicants: LOS Esteros Critical Energy Center, LLC.

Description: Los Esteros Critical Energy Facility, LLC submits a Notice of Termination of its FERC Rate Schedule 2 Reliability Must-Run Agreement with California Independent System Operator Corporation.

Filed Date: 11/02/2006.

Accession Number: 20061106-0012.

Comment Date: 5 p.m. Eastern Time on Friday, November 24, 2006.

Docket Numbers: ER07-162-000.

Applicants: Delta Energy Center, LLC.

Description: Delta Energy Center LLC submits Notice of Termination of its FERC Rate Schedule 2 the Reliability Must-Run Agreement with California Independent System Operator Corporation.

Filed Date: 11/02/2006.

Accession Number: 20061106-0006.

Comment Date: 5 p.m. Eastern Time on Friday, November 24, 2006.

Docket Numbers: ER07-163-000.

Applicants: Creed Energy Center, LLC.

Description: Creed Energy Center LLC submits Notice of Termination of its FERC Rate Schedule 2 Reliability Must-Run Agreement with California Independent System Operator Corporation.

Filed Date: 11/02/2006.

Accession Number: 20061106-0013.

Comment Date: 5 p.m. Eastern Time on Friday, November 24, 2006.

Docket Numbers: ER07-164-000.

Applicants: Public Service Company of New Mexico.

Description: Public Service Company of New Mexico submits notices of cancellation of PNM Rate Schedules & Service Agreements currently on file with the Commission etc. under ER07-164 et al.

Filed Date: 11/02/2006.

Accession Number: 20061106-0122.

Comment Date: 5 p.m. Eastern Time on Friday, November 24, 2006.

Docket Numbers: ER07-166-000.

Applicants: Texas New Mexico Power Company; Public Service Company of New Mexico.

Description: Texas-New Mexico Power Company, et al. submit certain notices of cancellation of Rate Schedules and Service Agreements etc.

Filed Date: 11/02/2006.

Accession Number: 20061106-0196.

Comment Date: 5 p.m. Eastern Time on Friday, November 24, 2006.

Docket Numbers: ER07-167-000.

Applicants: San Diego Gas & Electric Company.

Description: San Diego Gas & Electric Co. submits a Notice of Cancellation of the Reliability Must Run Agreement with the California Independent System Operator Corp. for the Palomar Energy Center Facility, dated 1/27/06.

Filed Date: 11/01/2006.

Accession Number: 20061107-0087.

Comment Date: 5 p.m. Eastern Time on Wednesday, November 22, 2006.

Docket Numbers: ER07-168-000.

Applicants: San Diego Gas & Electric Company.

Description: San Diego Gas & Electric Co. submits a Notice of Cancellation of the Reliability Must Run Agreement with the California Independent System Operator Corp.

Filed Date: 11/01/2006.

Accession Number: 20061107-0086.

Comment Date: 5 p.m. Eastern Time on Wednesday, November 22, 2006.

Docket Numbers: ER07-169-000.

Applicants: AmerenEnergy Resources Generating Company; Ameren Energy Generating Company.

Description: AmerenEnergy Resources Generating Company et al. submit rate schedules to implement Cost of Service Recovery Rates for the sale of Regulation & Frequency Response, Spinning, & Supplemental Reserve ancillary service.

Filed Date: 11/03/2006.

Accession Number: 20061107-0053.

Comment Date: 5 p.m. Eastern Time on Friday, November 24, 2006.

Docket Numbers: ER07-170-000.

Applicants: Ameren Energy, Inc.

Description: Ameren Energy Inc. submits a rate schedule to implement Cost of Service Recovery Rates for the sale of Spinning and Supplement Reserve ancillary services etc.

Filed Date: 11/03/2006.

Accession Number: 20061107-0054.

Comment Date: 5 p.m. Eastern Time on Friday, November 24, 2006.

Docket Numbers: ER07-171-000.

Applicants: Michigan Electric Transmission Co., LLC.

Description: Michigan Electric Transmission Company, LLC submits the executed Midwest Grain Processor Interconnection Facilities Agreement w/ Wabash Valley Power Association, effective 10/4/06.

Filed Date: 11/03/2006.

Accession Number: 20061107-0055.

Comment Date: 5 p.m. Eastern Time on Friday, November 24, 2006.

Docket Numbers: ER07-172-000.

Applicants: Idaho Power Company.

Description: Idaho Power Company submits notice of cancellation of two Service Agreements with Duke Energy Marketing America, LLC pursuant to Section 35.15 of FERC's Regulations.

Filed Date: 11/03/2006.

Accession Number: 20061107-0063.

Comment Date: 5 p.m. Eastern Time on Friday, November 24, 2006.

Take notice that the Commission received the following electric securities filings:

Docket Numbers: ES07-6-000.

Applicants: MDU Resources Group, Inc.

Description: MDU Resources Group, Inc. submits an Application for authority to issue short-term securities in the form of unsecured promissory notes and/or commercial paper not to exceed 150,000,000 at any one time.

Filed Date: 10/31/2006.

Accession Number: 20061106-0054.

Comment Date: 5 p.m. Eastern Time on Tuesday, November 21, 2006.

Docket Numbers: ES07-7-000.

Applicants: NorthWestern Corporation.

Description: NorthWestern Corp submits an application requesting authorization to borrow on a short-term, revolving basis up to a maximum of $200 million in connection with an existing unsecured credit facility.

Filed Date: 10/30/2006.

Accession Number: 20061106-0194.

Comment Date: 5 p.m. Eastern Time on Monday, November 20, 2006.

Any person desiring to intervene or to protest in any of the above proceedings must file in accordance with Rules 211 and 214 of the Commission's Rules of Practice and Procedure (18 CFR 385.211 and § 385.214) on or before 5 p.m. Eastern time on the specified Comment Date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-19321 Filed 11-15-06; 8:45 am]

BILLING CODE 6717-01-P